DEPARTMENT OF EDUCATION

National Assessment Governing Board; Meeting

AGENCY: National Assessment Governing Board; Education.

ACTION: Notice of open meeting and partially closed meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than July 25, 2003. We will attempt to meet requests after this date, but cannot guarantee availability of the requested accommodation. The meeting site is accessible to individuals with disabilities.

DATES: July 31-August 2, 2003.

Times:

July 31:

Committee Meetings:

Assessment Development Committee: Closed Session—12 p.m. to 3 p.m.;

Ad Hoc Committee on Background Questions: Open Session—3:30 p.m. to 5 p.m.;

Executive Committee: Open Session—5 p.m. to 6 p.m.; Closed Session 6 p.m. to 7 p.m.

August 1:

Full Board: Open Session—8:30 a.m. to 10 a.m.

Committee Meetings:

Assessment Development Committee: Closed Session—10 a.m. to 10:30 a.m.; Open Session—10:30 a.m. to 12 p.m.;

Committee on Standards, Design and Methodology: Open Session—10 a.m. to 12 p.m.;

Reporting and Dissemination Committee: Open Session—10 a.m. to 12 p.m.;

Full Board: Closed Session—12 p.m. to 1:30 p.m.; Open Session—1:30 p.m. to 4:15 p.m.

August 2:

Full Board: Open Session—8:30 a.m. to 12 p.m.

Location: Ritz-Carlton Pentagon City, 1250 South Hayes Street, Arlington, VA 22202.

FOR FURTHER INFORMATION CONTACT: Munira Mwalimu, Operations Officer, National Assessment Governing Board, 800 North Capitol Street, NW., Suite 825, Washington, D.C., 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

On July 31, the Assessment Development Committee will meet in closed session from 12 p.m. to 3 p.m. to review secure test items for the National Assessment of Educational Progress (NAEP) 2005 Science Assessment. The meeting must be conducted in closed session as disclosure of proposed test items from the 2005 NAEP Science Assessment would significantly impede implementation of the NAEP program, and is therefore protected by exemption 9(B) of section 552b(c) of Title 5 U.S.C.

The Executive Committee will meet in open session on July 31, from 5 p.m. to 6 p.m. The committee will then meet in closed session from 6 p.m. to 7 p.m. for two purposes. First, the committee will discuss independent government cost estimates for contracts related to the National Assessment of Educational Progress (NAEP). This part of the meeting must be conducted in closed session because public disclosure of this information would likely have an adverse financial effect on the NAEP program. The discussion of this information would be likely to significantly impeded implementation of a proposed agency action if conducted in open session. Such matters are protected by exemption 9(B) of section 552b(c) of Title 5 U.S.C.

Second, in the closed session, the Executive Committee will discuss a personnel action pertaining to nomination of the Board Vice Chair. This discussion pertains solely to internal personnel rules and practices of an agency and will disclose information of a personal nature where disclosure would constitute an unwarranted invasion of personal privacy. As such, the discussions are protected by exemptions 2 and 6 of section 552b(c) of Title 5 U.S.C.

On August 1, the full Board will meet in open session from 8:30 a.m. to 10 a.m. The Board will approve the agenda, hear the executive Director's report. and receive an update on the work of the National Center for Education Statistics (NCES) from the Associate Commissioner of NCES, Val Plisko.

From 10 a.m. to 12 p.m. on August 1, the Board's standing committees—the Assessment Development Committee; the Committee on Standards, Design, and Methodology; and the Reporting and Dissemination Committee—will meet in open session, with one exception. The Assessment Development Committee will meet in closed session on August 1 from 10 a.m. to 10:30 a.m. to receive a briefing on the 2002 NAEP Oral Reading Grade Four Special Study results. The meeting must be conducted in closed session because results of the Oral Reading Study have not been released to the public; premature disclosure of the information would significantly frustrate implementation of a proposed agency action if conducted in open session. Such matters are protected by exemption 9(B) of section 552b(c) of Title 5 U.S.C.

The full Board will meet in closed session on August 1, 2003 from 12 p.m. to 1:30 p.m. to receive results of the 2003 NAEP Reading and Mathematics Assessments. This session must be closed because the results of the Reading and Mathematics Assessments are under development and have not been released to the public Premature disclosure of the information would significantly frustrate implementation of a proposed agency action if conducted in open session. Such matters are protected by exemption 9(B) of section 552b(c) of Title 5 U.S.C.

The full Board will meet in open session on August 1 from 1:30 p.m.-4:15 p.m. The Board will receive an update on the 2007 Reading Framework Project at 1:30 p.m. followed by a presentation by former Vice Board Chair Michael Nettles from 2:45 p.m. to 3:35 p.m. This presentation will be followed by a report from the Ad Hoc Committee on State Sampling, after which the August 1 session of the board meeting will adjourn.

The full Board will meet in open session from 8:30 a.m. to 12 p.m. on August 2. The Board will review video clips on recent NAEP releases from 8:30 a.m. to 9 a.m., followed by a report on NAEP Special Studies/Technology Based Assessments from 9 a.m. to 9:30 a.m. The Board will then receive an update on the work of the NAEP 12th Grade Commission from 9:30 a.m. to 10 a.m. Board actions on policies and Committee reports are scheduled to take place between 10 a.m. and 12 p.m., when the August 2, 2003 session of the board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time.

Dated: July 10, 2003.
Charles E. Smith,
Executive Director, National Assessment Governing Board.

[FR Doc. 03-17868 Filed 7-14-03; 8:45 am]

BILLING CODE 4000-01-M